INTERNATIONAL TRADE COMMISSION

[Investigation No. 332-325]

The Economic Effects of Significant U.S. Import Restraints: Fifth Update

AGENCY: United States International Trade Commission.

ACTION: Notice of fifth update report and scheduling of public hearing.

SUMMARY: The Commission has announced the schedule for its Fifth update report in investigation No. 332-325, The Economic Effects of Significant U.S. Import Restraints, and has established deadlines for the submission of requests to appear at the hearing and for the filing of written submissions as set forth below. The investigation was requested by the Office of the U.S. Trade Representative (USTR) in May 1992. That request called for an initial investigation and subsequent updates, under section 332(g) of the Tariff Act of 1930 (19 U.S.C. 1332(g)).

DATES: Effective Date: April 7, 2006.

FOR FURTHER INFORMATION CONTACT: Alan Fox, Project Leader (alan.fox@usitc.gov, or 202-205-3267), or Sandra Rivera, Deputy Project Leader (sandra.rivera@usitc.gov, or 202-205-3007) in the Commission's Office of Economics. For information on the legal aspects of this investigation, contact William Gearhart of the Office of the General Counsel (william.gearhart@usitc.gov, or 202-205-3091). The media should contact Margaret O'Laughlin, Office of External Relations (202-205-1819; margaret.olaughlin@usitc.gov).

Background: The Commission instituted this investigation following receipt on May 15, 1992 of a request from the USTR. The request asked that the Commission conduct an investigation assessing the quantitative economic effects of significant U.S. import restraints on the U.S. economy, and prepare periodic update reports following the submission of the first report. The first report was delivered to the USTR in November 1993, the first update in December 1995, the second update in May 1999, the third update in June 2002, and the fourth update in June 2004.

In this fifth update, the Commission will assess the economic effects of significant tariff and non-tariff U.S. import restraints on U.S. consumers, on the activities of U.S. firms, on the income and employment of U.S. workers, and on the net economic welfare of the United States. The assessment will not include import restraints resulting from final antidumping or countervailing duty investigations, section 337 and 406 investigations, or section 301 actions.

The initial notice of institution of this investigation was published in the Federal Register of June 17, 1992 (57 FR 27063).

Public Hearing: A public hearing in connection with the investigation will be held at the U.S. International Trade Commission Building, 500 E Street, SW., Washington, DC, beginning at 9:30 a.m. on July 13, 2006. All persons shall have the right to appear, by counsel or in person, to present information and to be heard. Requests to appear at the public hearing should be filed with the Secretary, U.S. International Trade Commission, 500 E Street, SW., Washington, DC 20436, no later than 5:15 p.m., June 2, 2006. Any prehearing briefs (original and 14 copies) should be filed not later than the close of business, June 8, 2006; the deadline for filing post-hearing briefs or statements is the close of business, August 11, 2006. In the event that, as of the close of business on June 2, 2006, no witnesses are scheduled to appear at the hearing, the hearing will be canceled. Any person interested in attending the hearing as an observer or non-participant may call the Secretary to the Commission (202-205-2000) after June 5, 2006, to determine whether the hearing will be held.

Written Submissions: In lieu of or in addition to participating in the hearing, interested parties are invited to submit written statements concerning the matters to be addressed by the Commission in its report on this investigation. To be assured of consideration by the Commission, written statements relating to the Commission's report should be submitted to the Commission at the earliest practical date and should be received no later than 5:15 p.m., June 16, 2006. All written submissions must conform with the provisions of section 201.8 of the Commission's Rules of Practice and Procedure (19 CFR 201.8). Section 201.8 of the rules requires that a signed original (or copy designated as an original) and fourteen (14) copies of each document by filed. In the event that confidential treatment of the document is requested, at least four (4) additional copies must be filed, in which the confidential business information must be deleted (see the following paragraph for further information regarding confidential business information). The Commission's rules do not authorize filing submissions with the Secretary by facsimile or electronic means, except to the extent permitted by section 201.8 of the rules (see Handbook for Electronic Filing Procedures, http://hotdocs.usitc.gov/pubs/electronic_filing_handbook.pdf). Persons with questions regarding electronic filing should contact the Secretary (202-205-2000 or edis@usitc.gov).

Any submissions that contain confidential business information must also conform with the requirements of section 201.6 of the Commission's Rules of Practice and Procedure (19 CFR 201.6). Section 201.6 of the rules requires that the cover of the document and the individual pages be clearly marked as to whether they are the “confidential” or “nonconfidential” version, and that the confidential business information be clearly identified by means of brackets. All written submissions, except for confidential business information, will be made available in the Office of the Secretary for inspection by interested parties.

USTR requested that all reports in this series be released in their entirety to the public. Accordingly, the Commission intends to prepare only a public report in this investigation. The report that the Commission sends to the USTR and make available to the public will not contain confidential business information. Any confidential business information received by the Commission in this investigation and used in preparing the report will not be published in a manner that would reveal the operations of the firm supplying the information.

Hearing-impaired persons are advised that information on this matter can be obtained by contacting the Commission's TDD terminal on (202) 205-1810. Persons with mobility impairments who will need special assistance in gaining access to the Commission should contact the Office of the Secretary at 202-205-2000. General information concerning the Commission may be obtained by accessing its Internet server (http://www.usitc.gov). The public record for this investigation may be viewed on the Commission's electronic docket (EDIS) at http://edis.usitc.gov.

List of Subjects

U.S. Import Restraints, Nontariff measures (NTM), Tariffs, Imports.

Issued: April 12, 2006.
By order of the Commission.
Marilyn R. Abbott,
Secretary to the Commission.

[FR Doc. E6-5787 Filed 4-17-06; 8:45 am]

BILLING CODE 7020-02-P